DEPARTMENT OF ENERGY

Federal Energy Regulatory Commission

[Docket No. RM01-10-007]

Standards of Conduct for Transmission Providers; Second Notice of Technical Conference and Workshop

March 3, 2006.

The Federal Energy Regulatory Commission (Commission) will hold a technical conference and workshop on Standards of Conduct for Transmission Providers on April 7, 2006, at the Scottsdale Plaza in Scottsdale, Arizona. The meeting will begin at 9 a.m. (MST) and conclude at approximately 4 p.m. All interested persons are invited to attend. Prospective attendees and participants are urged to watch for a further notice with a detailed agenda that will be issued in advance of the conference and workshop.

The purpose of the conference and workshop is to discuss Standards of Conduct for Transmission Providers under Order No. 2004.¹ It will be held at the Scottsdale Plaza Resort located at 7200 North Scottsdale Road, Scottsdale, Arizona. Hotel rooms can be reserved by calling 1-800-306-0059 or by visiting its Web site at http://www.scottsdaleplaza.com.

¹ Standards of Conduct for Transmission Providers, Order No. 2004, FERC Stats. & Regs., Regulations Preambles ¶ 31,155 (2003), order on reh'g, Order No. 2004-A, III FERC Stats. & Regs. ¶ 31,161 (2004), 107 FERC ¶ 61,032 (2004), order on reh'g, Order No. 2004-B, III FERC Stats. & Regs. ¶ 31,166 (2004), 108 FERC ¶ 61,118 (2004), order on reh'g, Order No. 2004-C, 109 FERC ¶ 61,325 (2004), order on reh'g, Order No. 2004-D, 110 FERC ¶ 61,320 (2005), National Fuel Gas Supply Corp., et al. v. FERC, Nos. 04-1188, et al. (D.C. Cir. Filed June 9, 2004).

There is no registration fee to attend this conference. However, we request that those planning to attend the conference register online on the Commission's Web site at http://www.ferc.gov/whats-new/registration/comp-05-06-form.asp.

A free audio webcast of this event is available through http://www.ferc.gov. Anyone with Internet access who desires to listen this event can do so by navigating to http://www.ferc.gov's Calendar of Events and locating this event in the Calendar. The event will contain a link to its webcase. The Capitol Connection provides technical support for the webcasts and offers access to the meeting via phone bridge for a fee. If you have any questions, visit http://www.CaptiolConnection.org or contact Danelle Perkowski or David Reininger at 703-993-3100.

Transcripts of the meeting will be immediately available for a fee from Ace Reporting Company (202-347-3700 or 1-800-336-6646). They will be available for free on the Commission's eLibrary system and on the events calendar about two weeks after the conference.

Questions about the conference and workshop, including requests to participate, should be directed to: Demetra Anas, Office of Market Oversight and Investigations, Federal Energy Regulatory Commission, 888 First Street, NE., Washington, DC 20426. 202-502-8178. Demetra.Anas@ferc.gov.

Magalie R. Salas,
Secretary.

[FR Doc. E6-3453 Filed 3-9-06; 8:45 am]

BILLING CODE 6717-01-P